DEPARTMENT OF THE TREASURY

Submission for OMB Review; Comment Request

April 23, 2012.

The Department of the Treasury will submit the following information collection request to the Office of Management and Budget (OMB) for review and clearance in accordance with the Paperwork Reduction Act of 1995, Public Law 104-13, on or after the date of publication of this notice.

DATES: Comments should be received on or before May 29, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0013.

Type of Review: Revision of a currently approved collection.

Title: Change of Bond (Consent of Surety).

Form: TTB F 5000.18.

Abstract: A Change of Bond (Consent of Surety), TTB F 5000.18, is executed by both the bonding company and a proprietor and acts as a binding legal agreement between the two parties to extend the terms of a bond. A bond is necessary to cover specific liabilities on the revenue produced from untaxpaid commodities. TTB F 5000.18 is filed with TTB and a copy is retained by TTB as long as it remains current and in force.

Affected Public: Private Sector: Businesses or other for-profits.

Estimated Total Burden Hours: 3,533.

OMB Number: 1513-0027.

Type of Review: Revision of a currently approved collection.

Title: Taxable Articles Without Payment of Tax.

Form: TTB F 5200.14.

Abstract: The tobacco product manufacturer or export warehouse proprietor is liable for the tax on tobacco products until execution of the certification by Customs or an authorized receiving officer on TTB F 5200.14, which indicates verification of export or bonded transfer. TTB needs this information to protect the revenue. If this TTB form is not properly completed, TTB will assess the tax on the manufacturer of tobacco products or cigarette papers and tubes or on the proprietor of the export warehouse or customs manufacturing warehouse for products not exported or properly disposed of.

Affected Public: Private Sector: Businesses or other for-profits; Federal Government; Individuals or Households.

Estimated Total Burden Hours: 59,840.

OMB Number: 1513-0051.

Type of Review: Revision of a currently approved collection.

Title: Application For An Alcohol Fuel Producer Under 26 U.S.C. 5181.

Form: TTB F 5110.74.

Abstract: This form is used by persons who wish to produce and receive spirits for the production of alcohol fuels as a business or for their own use and for State and local registration where required. The form describes the person(s) applying for the permit, location of the proposed operation, type of material used for production, and amount of spirits to be produced.

Affected Public: Private Sector: Businesses or other for-profits, Farms; Individuals or Households.

Estimated Total Burden Hours: 377.

OMB Number: 1513-0090.

Type of Review: Extension without change of a currently approved collection.

Title: Excise Tax Return—Alcohol and Tobacco (Puerto Rico).

Form: TTB F 5000.25.

Abstract: Businesses in Puerto Rico report their Federal excise tax liability on distilled spirits, wine, beer, tobacco products, cigarette papers and tubes on TTB F 5000.25. TTB needs this form to identify the taxpayer and to determine the amount and type of taxes due and paid.

Affected Public: Private Sector: Businesses or other for-profits.

Estimated Total Burden Hours: 119.

Dawn D. Wolfgang,
Treasury PRA Clearance Officer.

[FR Doc. 2012-10038 Filed 4-25-12; 8:45 am]

BILLING CODE 4810-31-P